DEPARTMENT OF EDUCATION

Notice of Proposed Extension of Project Period and Waiver for the Center for Students With Disabilities Involved With and at Risk of Involvement With the Juvenile Justice System

AGENCY: Office of Special Education Programs, Office of Special Education and Rehabilitative Services, Department of Education.

ACTION: Notice of proposed extension and waiver.

SUMMARY: The Secretary proposes to waive the requirements in the Education Department General Administrative Regulations (EDGAR), at 34 CFR 75.250 and 75.261(a), that generally prohibit project periods exceeding five years and extensions of project periods involving the obligation of additional Federal funds. This extension of project period and waiver will enable the currently funded Center for Students With Disabilities Involved With and at Risk of Involvement With the Juvenile Justice System to receive funding from August 31, 2004 until August 31, 2005.

DATES: We must receive your comments on or before August 12, 2004.

ADDRESSES: Address all comments concerning this proposal to Renee Bradley, U.S. Department of Education, 400 Maryland Avenue, SW., room 4105, Potomac Center Plaza, Washington, DC 20202-2641. Telephone: (202) 245-7277 or via Internet: renee.bradley@ed.gov.

FOR FURTHER INFORMATION CONTACT: Renee Bradley, Telephone: (202) 245-7277.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed extension of project period and waiver.

During and after the comment period, you may inspect all public comments about this extension of project period and waiver in room 4105, Potomac Center Plaza, 550 12th Street, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this proposed extension of project period and waiver. If you want to schedule an appointment for this type of aid, you may call (202) 205-8113 or (202) 260-9895. If you use a TDD, you may call the Federal Information Relay Service at 1-800-877-8339.

Background: On March 3, 1999, the Department published a notice in the Federal Register (64 FR 10352) inviting applications for a new award for a Center for Students With Disabilities Involved With and at Risk of Involvement With the Juvenile Justice System (Center) for fiscal year (FY) 1999. Based on that notice, the Department made one award for a period of 60 months to the University of Maryland to establish and operate the Center to provide guidance and assistance to States, schools, justice programs, families, and communities in designing, implementing, and evaluating comprehensive educational programs, based on research validated practices, for students with disabilities at risk of involvement or involved in the juvenile justice system. The Center focuses on three broad areas: (1) Prevention programs, (2) educational programs, and (3) reintegration or transition programs. The Center addresses these three areas through research, training, and technical assistance and dissemination. The Department is seeking additional support for a competition to be held in FY 2005, which would continue the work of the Center. However, the current grant period for the Center ends on August 31, 2004.

In order to ensure that the work of the Center will continue until a new award can be made, the Secretary proposes to waive 34 CFR 75.250 and 75.261(a) and proposes to issue a continuation award to the existing grantee for an additional twelve-month period.

The Center will continue dissemination and technical assistance activities including:

(a) Preparation and dissemination of information materials designed to increase awareness of and use of research validated practices to a variety of audiences (e.g., educators, justice personnel, mental health personnel, judges, policymakers, families, and other service providers).

(b) Providing for information exchanges between researchers and practitioners who direct model programs and those seeking to design or implement model programs.

The Center will continue training activities including:

Funding at least three graduate students who have concentrations in special education or criminal justice to work as project research assistants for the Center. These students will assist with project facilitation and the Center's research and evaluation of programs.

The Center will also complete additional research activities as appropriate.

Regulatory Flexibility Act Certification

The Secretary certifies that the proposed extension of the project period and waiver will not have a significant economic impact on a substantial number of small entities. The only entity that would be affected is the Center for Students With Disabilities Involved With and at Risk of Involvement With the Juvenile Justice System.

Paperwork Reduction Act of 1995

This proposed extension of project period and waiver does not contain any information collection requirements.

Intergovernmental Review

This program is not subject to the requirements of Executive Order 12372 and the regulations in 34 CFR part 79.

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: July 21, 2004.
Troy R. Justesen,
Acting Deputy Assistant Secretary for Special Education and Rehabilitative Services.

[FR Doc. 04-17104 Filed 7-27-04; 8:45 am]

BILLING CODE 4000-01-P